OFFICE OF PERSONNEL MANAGEMENT

Excepted Service

AGENCY: U.S. Office of Personnel Management (OPM).

ACTION: Notice.

SUMMARY: This notice identifies Schedule A, B, and C appointing authorities applicable to a single agency that were established or revoked from May 1, 2018 to May 31, 2018.

FOR FURTHER INFORMATION CONTACT: Senior Executive Resources Services, Senior Executive Services and Performance Management, Employee Services, Julia Alford, 202-606-2246, SERS@opm.gov.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during May 2018.

Schedule B

No Schedule B Authorities to report during May 2018.

Schedule C

The following Schedule C appointing authorities were approved during May 2018.

Agency name | Organization name | Position title | Authorization number | Effective date
DEPARTMENT OF AGRICULTURE | Office of the Assistant Secretary for Congressional Relations | Director, Intergovernmental Affairs | DA180174 | 05/08/2018
| Office of the Secretary | Director of Policy Coordination | DA180158 | 05/08/2018
| Office of the Under Secretary for Farm Production and Conservation | Staff Assistant | DA180181 | 05/16/2018
| Office of the Under Secretary for Food Safety | Confidential Assistant | DA180148 | 05/24/2018
| Office of Under Secretary for Natural Resources and Environment | Staff Assistant | DA180169 | 05/24/2018
| Rural Housing Service | State Director | DA180146 | 05/16/2018
|  | State Director—Louisiana | DA180126 | 05/30/2018
|  | Strategic Program Advisor | DA180185 | 05/08/2018
APPALACHIAN REGIONAL COMMISSION | Appalachian Regional Commission | Program Analyst | AP180001 | 05/25/2018
DEPARTMENT OF COMMERCE | Office of the Deputy Assistant Secretary | Special Advisor | DC180123 | 05/08/2018
| International Trade Administration | Special Assistant | DC180142 | 05/25/2018
DEPARTMENT OF DEFENSE | Office of the Under Secretary of Defense (Acquisition, Technology, and Logistics) | Special Assistant (Logistics and Materiel Readiness) | DD180086 | 05/08/2018
DEPARTMENT OF THE ARMY | Office Assistant Secretary Army (Civil Works) | Special Assistant (Strategy and Acquisition Reform) | DW180031 | 05/16/2018
|  | Special Assistant (Civil Works) | DW180032 | 05/24/2018
| Office Assistant Secretary Army (Manpower and Reserve Affairs) | Special Assistant(Manpower and Reserve Affairs) | DW180033 | 05/16/2018
DEPARTMENT OF EDUCATION | Office of Communications and Outreach | Confidential Assistant | DB180046 | 05/24/2018
DEPARTMENT OF ENERGY | Office of Public Affairs | Special Assistant | DE180077 | 05/16/2018
| Advanced Research Projects Agency—Energy | Executive Support Specialist | DE180090 | 05/17/2018
| Assistant Secretary for Environmental Management | Senior Advisor | DE180105 | 05/23/2018
ENVIRONMENTAL PROTECTION AGENCY | Region 9—San Francisco, California | Senior Advisor | EP180061 | 05/10/2018
FEDERAL TRADE COMMISSION | Office of the Chairman | Economist | FT180004 | 05/02/2018
GENERAL SERVICES ADMINISTRATION | Office of Strategic Communications | Press Secretary and Deputy Associate Administrator for Media Affairs | GS180031 | 05/09/2018
| Office of Administrative Services | Director, Office of Accountability and Transparency | GS180033 | 05/24/2018
DEPARTMENT OF HEALTH AND HUMAN SERVICES | Administration for Children and Families | Advisor (2) | DH180134 DH180145 | 05/09/2018 05/24/2018
| Food and Drug Administration | Senior Advisor | DH180144 | 05/24/2018
| Office of Global Affairs | Senior Policy Advisor | DH180133 | 05/08/2018
| Office of Intergovernmental and External Affairs | Regional Director, San Francisco, California, Region IX | DH180131 | 05/14/2018
| Office of the Assistant Secretary for Legislation | Advisor | DH180141 | 05/25/2018
| Office of the Assistant Secretary for Public Affairs | Director, Speechwriting and Editorial Services | DH180153 | 05/23/2018
|  | Press Secretary | DH180154 | 05/24/2018
| Office of the General Counsel | Associate Deputy General Counsel | DH180049 | 05/08/2018
| Office of the Secretary | Senior Advance Representative | DH180150 | 05/24/2018
DEPARTMENT OF HOMELAND SECURITY | Office of the Under Secretary for National Protection and Programs Directorate | Legislative Advisor | DM180172 | 05/08/2018
| Office of the Executive Secretariat | Senior Advisor | DM180200 | 05/09/2018
| Office of Assistant Secretary for Legislative Affairs | Confidential Assistant for Legislative Affairs | DM180195 | 05/14/2018
DEPARTMENT OF HOUSING AND URBAN DEVELOPMENT | Office of the Secretary | Policy and Programs Officer | DU180068 | 05/17/2018
DEPARTMENT OF THE INTERIOR | Assistant Secretary—Insular Areas Office of the Attorney General Secretary's Immediate Office | Senior Advisor Special Assistant Special Assistant Advisor | DI180049 DJ180100 DI180054 DI180056 | 05/25/2018 05/25/2018 05/02/2018 05/09/2018
DEPARTMENT OF JUSTICE | Secretary's Immediate Office | Deputy Director, External Affairs | DI180046 | 05/30/2018
DEPARTMENT OF LABOR | Veterans Employment and Training Service | Chief of Staff | DL180081 | 05/08/2018
| Office of the Secretary | Special Assistant | DL180088 | 05/08/2018
| Occupational Safety and Health Administration | Special Assistant | DL180087 | 05/14/2018
| Women's Bureau | Chief of Staff | DL180092 | 05/14/2018
| Employment and Training Administration | Counsel | DL180097 | 05/14/2018
OFFICE OF MANAGEMENT AND BUDGET | Education, Income Maintenance and Labor Programs | Confidential Assistant | BO180020 | 05/14/2018
| Legislative Affairs | Deputy for Legislative Affairs | BO180016 | 05/01/2018
|  | Deputy for Legislative Affairs (House) | BO180017 | 05/08/2018
| Office of the Director | Project Coordinator | BO180012 | 05/02/2018
| Communications | Press Secretary | BO180022 | 05/14/2018
|  | Deputy Associate Director for Communications | BO180023 | 05/14/2018
|  | Deputy Press Secretary | BO180024 | 05/14/2018
| Health Division | Confidential Assistant | BO180018 | 05/25/2018
OFFICE OF PERSONNEL MANAGEMENT | Office of the Director | Special Assistant for Advance | PM180028 | 05/16/2018
SECURITIES AND EXCHANGE COMMISSION | Office of the Chairman | Writer-Editor | SE180004 | 05/17/2018
DEPARTMENT OF STATE | Bureau of Democracy, Human Rights and Labor | Senior Advisor | DS180043 | 05/08/2018
| Office of the Secretary | Advisor | DS180049 | 05/14/2018
| Bureau of European and Eurasian Affairs | Strategic Advisor | DS180048 | 05/24/2018
| Bureau of Oceans and International Environmental and Scientific Affairs | Senior Advisor | DS180044 | 05/25/2018
DEPARTMENT OF THE TREASURY | Assistant Secretary for International Markets and Development | Special Assistant | DY180069 | 05/14/2018
DEPARTMENT OF VETERANS AFFAIRS | Office of the Secretary and Deputy | Special Assistant | DV180033 | 05/09/2018

The following Schedule C appointing authorities were revoked during May 2018.

Agency name | Organization name | Position title | Request number | Date vacated
DEPARTMENT OF COMMERCE | Office of Public Affairs | Deputy Director of Speechwriting | DC170075 | 05/12/2018
|  | Press Assistant | DC170057 | 05/15/2018
OFFICE OF THE SECRETARY OF DEFENSE | Office of the Secretary of Defense | Speechwriter | DD180034 | 05/26/2018
DEPARTMENT OF EDUCATION | Office of Elementary and Secondary Education | Confidential Assistant (2) | DB180026 DB170102 | 05/14/2018 05/26/2018
DEPARTMENT OF ENERGY | Office of Science | Physical Scientist (Senior Advisor) | DE180016 | 05/26/2018
DEPARTMENT OF HEALTH AND HUMAN SERVICES | Office of Refugee Resettlement/Office of the Director | Policy Advisor | DH170339 | 05/06/2018
| Administration for Children and Families | Confidential Assistant | DH170086 | 05/12/2018
| Office of Global Affairs | Senior Advisor | DH170103 | 05/12/2018
DEPARTMENT OF HOUSING AND URBAN DEVELOPMENT | Office of Public and Indian Housing | Special Policy Advisor | DU170113 | 05/12/2018
| Office of Public Affairs | Director of Communications | DU170141 | 05/12/2018
DEPARTMENT OF JUSTICE | Office of Legal Policy | Counsel | DJ170048 | 05/03/2018
DEPARTMENT OF LABOR | Office of Public Liaison | Special Assistant | DL180053 | 05/26/2018
| Office of the Secretary | Counselor to the Secretary | DL170052 | 05/26/2018
DEPARTMENT OF STATE | Office of the Secretary | Special Assistant (Scheduler) | DS180027 | 05/12/2018
|  | Special Advisor | DS170147 | 05/26/2018
DEPARTMENT OF THE NAVY | Office of the Under Secretary of the Navy | Special Assistant | DN170022 | 05/26/2018
DEPARTMENT OF THE TREASURY | Department of the Treasury | Special Assistant | DY170113 | 05/04/2018
DEPARTMENT OF TRANSPORTATION | Secretary | Special Assistant for Scheduling and Advance | DT170137 | 05/11/2018
ENVIRONMENTAL PROTECTION AGENCY | Office of Public Affairs | Deputy Associate Administrator for State and Regional Affairs | EP170085 | 05/13/2018
SMALL BUSINESS ADMINISTRATION | Office of Capital Access | Special Advisor | SB170021 | 05/05/2018
| Office of Congressional and Legislative Affairs | Special Advisor | SB180021 | 05/12/2018

Authority: 5 U.S.C. 3301 and 3302; E.O. 10577, 3 CFR, 1954-1958 Comp., p. 218.

U.S. Office of Personnel Management.
Alexys Stanley,
Regulatory Affairs Analyst,

[FR Doc. 2018-22685 Filed 10-19-18; 8:45 am]

BILLING CODE 6325-39-P